DEPARTMENT OF COMMERCE

International Trade Administration

[C-570-157]

Aluminum Lithographic Printing Plates From the People's Republic of China: Preliminary Determination of Critical Circumstances, in Part, in the Countervailing Duty Investigation; Correction

AGENCY: Enforcement and Compliance, International Trade Administration, Department of Commerce.

ACTION: Notice; correction.

SUMMARY: The U.S. Department of Commerce (Commerce) published notice in the Federal Register of April 8, 2024, in which Commerce made its preliminary determination of critical circumstances, in part, in the countervailing duty (CVD) investigation of aluminum lithographic printing plates (printing plates) from the People's Republic of China (China) for Fujifilm Printing Plate (China) Co., Ltd. (FFPS) and Shanghai National Ink Co. Ltd. (Shanghai National). This notice listed the incorrect date for U.S. Customs and Border Protection (CBP) to begin the suspension of liquidation for entries of subject merchandise for FFPS and Shanghai National.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On April 8, 2024, Commerce published in the Federal Register the preliminary determination of critical circumstances, in part, in the CVD investigation of printing plates from China.¹ We incorrectly listed the date for CBP to begin the suspension of liquidation for entries of subject merchandise from FFPS and Shanghai National as December 1, 2023, instead of December 2, 2023, which is 90 days prior to the date of publication of the Preliminary Determination.²

¹ See Aluminum Lithographic Printing Plates from the People's Republic of China: Preliminary Determination of Critical Circumstances, in Part, in the Countervailing Duty Investigation, 89 FR 24433 (April 8, 2024).

² See Aluminum Lithographic Printing Plates from the People's Republic of China: Preliminary Affirmative Countervailing Duty Determination, and Alignment of Final Determination with Final Antidumping Duty Determination, 89 FR 15134 (March 1, 2024) (Preliminary Determination).

Correction

In the Federal Register of April 8, 2024, in FR Doc 2024-07346, on page 24435, in the second column, in the section entitled, “Suspension of Liquidation,” correct the date for CBP to suspend liquidation of unliquidated entries of subject merchandise from China produced by FFPS and Shanghai National to be December 2, 2023.

Notification to Interested Parties

This notice is issued and published in accordance with sections 703(f) and 777(i)(1) of the Tariff Act of 1930, as amended.

Dated: April 9, 2024.
Ryan Majerus,
Deputy Assistant Secretary for Policy and Negotiations, performing the non-exclusive functions and duties of the Assistant Secretary for Enforcement and Compliance.

[FR Doc. 2024-07903 Filed 4-12-24; 8:45 am]

BILLING CODE 3510-DS-P